DEPARTMENT OF AGRICULTURE

Forest Service

Ochoco National Forest, Paulina Ranger District; Oregon; Gap Fuels and Vegetation Management Project EIS

AGENCY: Forest Service, USDA.

ACTION: Notice of intent to prepare an environmental impact statement.

SUMMARY: The Ochoco National Forest is preparing an environmental impact statement (EIS) to analyze the effects of managing fuels and vegetation within the 38,145-acre Gap project area, which is east of Prineville, Oregon. The project area includes National Forest System lands in the Upper North Fork Crooked River and Horse Heaven Creek-Crooked River Watersheds. The alternatives that will be analyzed include the proposed action, no action, and additional alternatives that respond to issues generated through the scoping process. The Ochoco National Forest will give notice of the full environmental analysis and decision making process so interested and affected people may participate and contribute to the final decision.

DATES: Comments concerning the scope of the analysis must be received by April 3, 2014. The draft environmental impact statement is expected to be completed and available for public comment in November, 2014. The final environmental impact statement is expected to be completed in March, 2015.

ADDRESSES: Send written comments to Sandy Henning, District Ranger, Paulina Ranger District, Ochoco National Forest, 3160 NE Third Street, Prineville, Oregon 97754. Alternately, electronic comments may be sent to comments-pacificnorthwest-ochoco@fs.fed.us. Electronic comments must be submitted as part of the actual email message, or as an attachment in plain text (.txt), Microsoft Word (.doc), rich text format (.rtf), or portable document format (.pdf).

FOR FURTHER INFORMATION CONTACT: Marcy Anderson, Project Leader, at 3160 NE Third Street, Prineville, Oregon 97754, or at (541) 416-6463, or by email at marcelleanderson@fs.fed.us.

SUPPLEMENTARY INFORMATION:

Purpose and Need for Action

The general purpose of entering this project area is to contribute to the resiliency of the landscape and to promote vegetative conditions that are similar to what occurred historically. The project's planning team is considering management activities that would promote and sustain late and old structured stands, increase resistance of forested vegetation to insects, disease and stand-replacing wildfire, and improve the condition of riparian vegetation.

Preliminary field work in the Gap project area indicated that vegetation conditions in the project area have departed from the historic condition in several ways:

• Changes in tree species compositions.

• A reduction in late and old structured forest.

• A reduction in open-canopy stands.

• An increased risk of large-scale loss of forest to wildfire.

• An increased risk of insect infestation and/or disease that can impact forested stands.

• A decline in the condition of riparian vegetation.

The Purpose and Need was developed based upon direction from the Ochoco Forest Plan and opportunities identified during preliminary field visits.

1. There is a need to strategically reduce forest vegetation density and fuel loadings towards a historic range of variability to provide a range of forest conditions and habitats that would support historic disturbance processes, native wildlife and plant species.

2. There is a need to increase or maintain large tree structure and to maintain the abundance of early-seral and fire tolerant species compositions, i.e. ponderosa pine, western larch and Douglas-fir.

3. There is a need to improve riparian conditions and associated upland vegetation within Riparian Habitat Conservation Areas (RHCAs) and maintain and enhance hardwood communities.

4. There is a need to contribute to the local and regional economies by providing timber and other wood fiber products now and in the future.

Proposed Action

The proposed action includes a variety of management strategies and activities, including commercial thinning with follow-up precommercial thinning and/or prescribed burning (16,665 acres), precommercial thinning with prescribed burning (3,340 acres), meadow restoration (300 acres), riparian restoration (9 sites), and aspen stand restoration (30 sites). Implementation of the proposed action would require some connected actions; these include use of temporary roads on existing disturbance (23 miles), use of new temporary roads (8 miles), and road reconstruction (3 miles). The proposal also includes closure or decommissioning of 21 miles of roads in the project area.

Responsible Official

The responsible official will be Kate Klein, Forest Supervisor, Ochoco National Forest, 3160 NE Third Street, Prineville, Oregon 97754.

Nature of Decision To Be Made

Given the purpose and need, the deciding official will review the proposed action, the other alternatives, and the environmental consequences in order to decide whether and under what circumstances fuels and vegetation management will be implemented in the Gap Fuels and Vegetation project area.

Preliminary Issues

The project's interdisciplinary team has developed a list of preliminary issues that will be used during the analysis of effects. Other issues may arise as a result of public comment and further analysis. Preliminary issues include:

• Invasive Plant Species (Noxious Weeds). Several populations of noxious weeds are known to exist within the project area. There is a risk that management activities may exacerbate the weed situation by spreading existing populations or introducing new ones.

• Peck's Mariposa Lily. Management activities can improve habitat for this sensitive species, but also risk impacting individual plants and/or habitat where it occurs in the project area.

• Soil Productivity. Maintenance of soil productivity is an important objective for management of National Forest Lands. When mechanized equipment is used in the Forest, soil can become displaced and compacted, which can impact productivity.

• Water Quality. Management activities can result in reduced shade on streams, as well as contribute sediment into the streams, which impacts water quality and decreases habitat quality for fish and other riparian fauna.

• Wildlife Habitat. Activities intended to improve forest health and resiliency may reduce habitat effectiveness for some wildlife species, including forest raptors and big game.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: February 25, 2014.
Sandra J. Henning,
District Ranger.

[FR Doc. 2014-04705 Filed 3-3-14; 8:45 am]

BILLING CODE 3410-11-P